DEPARTMENT OF HEALTH AND HUMAN SERVICES

Administration for Children and Families

Proposed Information Collection Activity; Comment Request

Proposed Projects

Title: Case Plan Section 422,471(a)(16), 475(5)(A) of the Social Security Act.

OMB No.: 0980-0140.

Description: Under section 471(a)(16) of title IV-E of the Social Security Act (the Act), in order for States to be eligible for payments they must have an approved State plan which provides for the development of a case plan (as defined in section 475(1)) for each child receiving foster care maintenance payments, and provides a case review system which meets the requirements in section 475(5) and 475(6). Through the meeting of these requirements, the State also complies, in part, with title IV-B, section 422(b)(10) of the Act (as of 4/1/96), which assures certain protections for children in foster care.

Respondents: State governments.

Annual Burden Estimates
Instrument | Number of respondents | Number of responses per respondents | Average burden hours per response | Total burden hours
Case Plan | 714,056 | 1 | 2.62 | 1,870,827
Estimated Total Annual Burden Hours: |  |  |  | 1,870,827

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: October 30, 2000.
Bob Sargis,
Reports Clearance Officer.

[FR Doc. 00-28317 Filed 11-3-00; 8:45 am]

BILLING CODE 4184-01-M